DEPARTMENT OF COMMERCE

Foreign-Trade Zones Board

[Order No. 1965]

Reorganization of Foreign-Trade Zone 104 (Expansion of Service Area) Under Alternative Site Framework; Savannah, Georgia

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the World Trade Center Savannah, LLC, grantee of FTZ 104, submitted an application to the Board (FTZ Docket B-9-2014, docketed 02-04-2014) for authority to expand the service area of the zone to include the Counties of Burke, Candler, Emanuel, Jefferson, Jenkins, Johnson, Laurens, Montgomery, Tattnall, Telfair, Toombs, Treutlen, Washington and Wheeler, as described in the application, adjacent to the Savannah Customs and Border Protection port of entry;

Whereas, notice inviting public comment was given in the Federal Register (79 FR 7642-7643, 02-10-2014) and the application has been processed pursuant to the FTZ Act and the Board's regulations; and,

Whereas, the Board adopts the findings and recommendations of the examiner's report (including addendum), and finds that the requirements of the FTZ Act and the Board's regulations are satisfied with regard to expanding the service area of FTZ 104 to include Candler, Emanuel, Jenkins, Tattnall, Toombs, and Treutlen Counties, Georgia.

Now, therefore, the Board hereby orders:

The application to reorganize FTZ 104 to expand the service area under the ASF is approved with regard to the inclusion of Candler, Emanuel, Jenkins, Tattnall, Toombs, and Treutlen Counties, Georgia, subject to the FTZ Act and the Board's regulations, including Section 400.13, and to the Board's standard 2,000-acre activation limit for the zone.

Signed at Washington, DC, this day of March 12, 2015.
Ronald K. Lorentzen,
Acting Assistant Secretary of Commerce for Enforcement and Compliance, Alternate Chairman, Foreign-Trade Zones Board.
Andrew McGilvray,
Executive Secretary.

[FR Doc. 2015-06470 Filed 3-19-15; 8:45 am]

BILLING CODE 3510-DS-P